Proclamation 7814 of September 14, 2004

National Historically Black Colleges and Universities Week, 2004

By the President of the United States of America

A Proclamation

This year, as we celebrate the 50th anniversary of Brown v. Board of Education and the 40th anniversary of the Civil Rights Act of 1964, we recognize our Historically Black Colleges and Universities (HBCUs) for their extraordinary accomplishments in education and for extending the promise of our Nation's founding to all of our citizens. Historically Black Colleges and Universities were created to educate African Americans when they were wrongly denied the opportunity to attend school during the 19th century. Today, these great institutions continue to advance equal opportunity and excellence in education. In 2002, HBCUs enrolled 14 percent of all African Americans attending college. Their graduates are leaders in medicine, education, government, the military, business, the arts, the law, and many other fields. They include such heroes as Thurgood Marshall, who led the struggle for equal justice under law for African Americans and successfully represented African-American schoolchildren in Brown.

Half a century after the Supreme Court's historic decision in Brown, America is still working to reach the high calling of its ideals. Education remains the path to equality and opportunity, and HBCUs are a vital part of our national commitment to improving education for all of our citizens. Funding for HBCUs is now at an all-time high. By providing students with a quality education, HBCUs are continuing to help America remain a place of opportunity and hope for every citizen.

NOW, THEREFORE, I, GEORGE W. BUSH, President of the United States of America, by virtue of the authority vested in me by the Constitution and laws of the United States, do hereby proclaim September 12 through September 18, 2004, as National Historically Black Colleges and Universities Week. I call upon public officials, educators, librarians, and all the people of the United States to observe this week with appropriate ceremonies, activities, and programs to show our respect and appreciation for these remarkable institutions and their graduates.

IN WITNESS WHEREOF, I have hereunto set my hand this fourteenth day of September, in the year of our Lord two thousand four, and of the Independence of the United States of America the two hundred and twenty-ninth.

B

[FR Doc. 04-21123

Filed 9-16-04; 8:45 am]

Billing code 3195-01-P